DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 22, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 30, 2020.
Donald P. Burger,
Chief, General Approvals and Permits Branch.

Special Permits Data
Application No. | Applicant | Regulation(s) affected | Nature of the special permits thereof
9168-M | Berlin Packaging LLC | 173.13(a), 173.13(b), 173.13(c)(1)(ii), 173.13(c)(1)(iv), 173.13(c)(2)(iii) | To modify the special permit to clarify quantities of hazmat authorized per packaging. (modes 1, 2, 4, 5).
11380-M | Baker Hughes Oilfield Operations LLC | 173.302a(a) | To modify the special permit to authorize an improved design of the cylinders. (modes 1, 2, 3, 4).
12102-M | Haz Mat Services, Incorporated | 173.56(i) | To modify the special permit to authorize additional Class 3 and 4.1 hazmat. (modes 1, 3).
14849-M | Call2recycle, Inc | 172.400, 172.102(c)(1), 172.200, 172.300, 173.159a(c)(2), 173.185(c)(1)(iii), 173.185(c)(1)(iv), 173.185(c)(1)(v), 173.185(c)(3), 172.303(a), 173.185(d) | To modify the special permit to authorize rail transportation, to allow batteries up to 300 Wh to be transported by vessel, and to clarify the lithium battery mark on the package. (modes 1, 2, 3).
16118-M | Toyota Motor Sales USA Inc | 173.301(a)(1) | To modify the special permit to more closely align it with relevant sections for compressed hydrogen in the UN Model Regulation 21st Revision, Special Provision 392. (modes 1, 2, 3, 4).
20301-M | Tesla, Inc | 172.101(j), 173.185(a)(1), 173.185(b)(3)(i), 173.185(b)(3)(ii) | To modify the special permit to authorize a new larger size prototype lithium battery. (mode 4).
20336-M | Geotek Coring Inc | 173.3(d)(3) | To modify the special permit to authorize freight containers up to 40 feet in length to transport up to 30 salvage drums for disposal. (modes 1, 2).
20541-M | ISGEC Heavy Engineering Ltd | 179.300-19(a) | To modify the special permit to clarify test and chemical analysis observations. (modes 1, 2, 3).
20669-M | Louisiana Energy Services, LLC | 173.420 | To modify the special permit to authorize natural uranium. (modes 1, 2).
20825-M | Space Exploration Technologies Corp | 172.300, 172.400, 173.302(a) | To modify the special permit to authorize additional origination and destination locations. (mode 1).

[FR Doc. 2020-09727 Filed 5-6-20; 8:45 am]

BILLING CODE 4909-60-P